DEPARTMENT OF DEFENSE

Office of the Secretary

[Docket ID: DoD-2015-OS-0061]

Privacy Act of 1974; System of Records

AGENCY: Defense Contract Audit Agency, DoD.

ACTION: Notice to add a new System of Records.

SUMMARY: The Defense Contract Audit Agency (DCAA) proposes a new system of records notice, RDCAA 366.4, entitled “DCAA Telework Program Records,” in its existing inventory of record systems subject to the Privacy Act of 1974, as amended. This system will be used to collect employee telework agreements to assure compliance with Department of Defense and Defense Contract Audit Agency regulations.

DATES: Comments will be accepted on or before July 23, 2015. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, Telephone number: (703) 767-1022.

SUPPLEMENTARY INFORMATION: The Defense Contract Audit Agency system of records notices subject to the Privacy Act of 1974, as amended, have been published in the Federal Register and are available from the address in FOR FURTHER INFORMATION CONTACT or from the Defense Privacy and Civil Liberties Division Web site at http://dpcld.defense.gov/privacy.

The proposed system report, as required by 5 U.S.C. 552a(r) of the Privacy Act of 1974, as amended, was submitted on May 12, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 18, 2015.
Aaron Siegel,
Alternate OSD Federal Register Liaison Officer, Department of Defense.

RDCAA 366.4

System name:

DCAA Telework Program Records.

System Location:

Records are maintained by the Human Resources Management Division, Office of the Defense Contract Audit Agency, 8725 John J. Kingman Road, Suite 2133, Fort Belvoir, VA 22060-6219.

Categories of individuals covered by the system:

Employees participating in the DCAA Telework Program.

Categories of records in the system:

Records include individual's name; position title, grade, and job series; duty station address and telephone number; telework address, telephone number(s), telework request forms (Telework Agreement, Self-Certification Home Safety Checklist, and Employee Checklist).

Authority for maintenance of the system:

5 U.S.C. 65, Chapter 65, Telework; DoD Instruction 1035.01, Subject Telework Policy; DCAA Instruction 1035.01, DCAA Telework Policy; and DCAA National Collective Bargaining Agreement.

Purpose(s):

Records may be used by DCAA management, human resources offices, and program coordinator for managing and reporting Telework Program participation. DCAA may need to extract Agency-wide data and submit this data as part of the Agency's Annual Telework Report to DoD, Office of Personnel Management (OPM), and/or Congress.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the Department of Labor when an employee is injured while teleworking, i.e., telework address and safety checklists may be disclosed.

The DoD Blanket Routine Uses set forth at the beginning of the DCAA's compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Paper and electronic storage media.

Retrievability:

Records are retrieved by name.

Safeguards:

Electronic records are maintained in a password-protected network and accessible only to DCAA management on a need-to-know basis to perform their duties. Access to the network where records are maintained requires a valid Common Access Card (CAC). Paper records are secured in locked cabinets, offices, or buildings during non-duty hours. The same security standards currently applied to individually-issued CAC card are applicable to paper compilations.

Retention and disposal:

Records are destroyed one (1) year after employee's participation in the program ends.

System manager(s) and address:

Human Resources Manager, Human Resources Management Division, Office of the Defense Contract Audit Agency, 8725 John J. Kingman Road, Suite 2133, Fort Belvoir, VA 22060-6219.

Notification procedure:

Individuals seeking to determine whether information about themselves is contained in this system should address written inquiries to the Privacy Act Officer, Headquarters, Defense Contract Audit Agency, ATTN: CMR, 8725 John J. Kingman Road, Suite 2135, Fort Belvoir, VA 22060-6219.

Individual should provide full name and organizational information.

Records access procedures:

Individuals seeking access to information about themselves contained in this system should address written inquiries to the Privacy Act Officer, Headquarters, Defense Contract Audit Agency, ATTN: CMR, 8725 John J. Kingman Road, Suite 2135, Fort Belvoir, VA 22060-6219.

Individual should provide full name and organizational information.

Contesting record procedures:

DCAA's rules for accessing records, for contesting contents and appealing initial agency determinations are published in DCAA Instruction 5410.10; 32 CFR part 317; or may be obtained from the system manager.

Record source categories:

Data is supplied by the subordinate employees submitted to the first level supervisor.

Exemptions claimed for the system:

None.

[FR Doc. 2015-15360 Filed 6-22-15; 8:45 am]

BILLING CODE 5001-06-P